DEPARTMENT OF COMMERCE

National Oceanic and Atmospheric Administration

50 CFR Part 648

[Docket No. 980414095-8240-02; I.D. 121800D]

Fisheries of the Northeastern United States; Dealer Reporting Requirements

AGENCY: National Marine Fisheries Service (NMFS), National Oceanic and Atmospheric Administration (NOAA), Commerce.

ACTION: Notification of termination of the deferral of Interactive Voice Response (IVR) System reporting requirements for Atlantic cod and haddock purchases; stay.

SUMMARY: In accordance with the memorandum of January 20, 2001, from the Assistant to the President and Chief of Staff, entitled “Regulatory Review Plan,” published in the Federal Register on January 24, 2001, this action temporarily stays for 60 days the effectiveness of the notification published in the Federal Register on December 29, 2000, that terminated the deferral of the IVR system reporting requirements for Atlantic cod and haddock purchases for dealers issued Northeast Multispecies permits.

DATES: Effective February 12, 2001, the rule document, Dealer Reporting Requirements, published at 65 FR 82944 on December 29, 2000, is stayed from January 28, 2001, until April 1, 2001.

FOR FURTHER INFORMATION CONTACT: Kelley McGrath, (978) 281-9307 or Gregory Power, (978) 281-9304.

SUPPLEMENTARY INFORMATION: To effectively monitor landings of quota-managed species on a timely basis, NMFS issued a final rule (63 FR 52639, October 1, 1998) requiring federally permitted dealers to submit a weekly summary of purchases of quota-managed species through the IVR system within 3 days of the end of the reporting week. To minimize the burden of dealer reporting requirements, the regulations implementing the use of an IVR system also include authorization for the Regional Administrator, Northeast Region, NMFS (Regional Administrator) to defer the IVR reporting requirements for any species if landings are not expected to reach levels that would cause the applicable target exploitation rate specified in the Fisheries Management Plan for that species to be achieved, resulting in specific management changes. In order to minimize the burden of dealer reporting requirements, the Regional Administrator deferred IVR reporting requirements for Atlantic mackerel, butterfish and regulated Northeast Multispecies, which included Atlantic cod and haddock in a notification action effective November 1, 1998 (63 FR 57931, October 29, 1998). The Regional Administrator determined that in order to collect accurate data on a real-time basis, she needed to terminate the deferral for Atlantic cod and haddock to ensure that the Atlantic cod and haddock species are maintained at sustainable levels. Therefore, a notification action was published on December 29, 2000 (65 FR 82944), terminating the deferral of the IVR system reporting requirements for Atlantic cod and haddock purchases. This action is effective on January 28, 2001. However, consistent with the guidance contained in the “Regulatory Review Plan,” NMFS is staying the effectiveness of the IVR system reporting requirements deferral through March 31, 2001. Therefore, the deferral of the IVR reporting requirements for Atlantic mackerel, butterfish and regulated Northeast Multispecies including Atlantic cod and haddock, will remain in effect through March 31, 2001. The termination of the stay of the IVR system reporting requirements for Atlantic cod and haddock purchases is effective April 1, 2001. All other reporting requirements as discussed in the December 29, 2000, notification remain in effect.

Classification

This action is authorized by 50 CFR part 648 and is exempt from review under Executive Order 12866.

To the extent that 5 U.S.C. 553 applies to this action, it is exempt from notice and comment because it constitutes a rule of procedure under 5 U.S.C. 553(b)(A). Alternatively, NMFS’ implementation of this rule without opportunity for public comment is based on the good cause exceptions in 5 U.S.C. 553(b)(B) and 553(d)(3), in that seeking public comment is impracticable, unnecessary and contrary to the public interest. Given the imminence of the effective date, seeking prior public comment on this temporary stay would have been impractical, as well as contrary to the public interest in the orderly promulgation and implementation of regulations. Delays in implementing the stay while seeking public comment would have led to confusion in the fishing industry concerning which reporting requirements would be required for dealers during this interim period.

Authority: 16 U.S.C. 1801 et seq.

Dated: February 6, 2001.
Bruce Morehead,
Acting Director, Office of Sustainable Fisheries, National Marine Fisheries Service.

[FR Doc. 01-3547 Filed 2-9-01; 8:45 am]

BILLING CODE 3510-22-S